DEPARTMENT OF COMMERCE

International Trade Administration

[A-570-958]

Certain Coated Paper Suitable for High-Quality Print Graphics Using Sheet-Fed Presses From the People's Republic of China: Rescission of the Antidumping Duty Administrative Review; 2017-2018

AGENCY: Enforcement and Compliance, International Trade Administration, Department of Commerce.

SUMMARY: The Department of Commerce (Commerce) is rescinding the administrative review of the antidumping duty order on certain coated paper suitable for high-quality print graphics using sheet-fed presses (coated paper) from the People's Republic of China (China) for the period November 1, 2017, through October 31, 2018.

DATES: Applicable April 16, 2019.

FOR FURTHER INFORMATION CONTACT: Shanah Lee, AD/CVD Operations, Office III, Enforcement and Compliance, International Trade Administration, U.S. Department of Commerce, 1401 Constitution Avenue NW, Washington, DC 20230; telephone: (202) 482-6386.

SUPPLEMENTARY INFORMATION:

Background

On November 1, 2018, Commerce published a notice of opportunity to request an administrative review of the antidumping duty order on coated paper from China.¹ On November 30, 2018, Commerce received timely requests to conduct an administrative review of the antidumping duty order on coated paper from China from Verso Corporation, Sappi North America, Inc., and the United Steel, Paper and Forestry, Rubber, Manufacturing, Energy, Allied Industrial and Service Workers International Union, AFL-CIO, CLC (collectively, the petitioners).² Based on this request, on February 6, 2019, in accordance with section 751(a) of the Tariff Act of 1930, as amended (the Act), Commerce published in the Federal Register a notice of initiation of an administrative review covering the period November 1, 2017, through October 31, 2018 covering 15 producers/exporters.³ In the Initiation Notice, we noted that the deadline for parties to withdraw requests for administrative review was 90 days from the publication of the instant notice, i.e., May 7, 2019. On March 29, 2019, the petitioners timely submitted a request to withdraw its request for administrative review with respect to all companies identified in the Initiation Notice.⁴

¹ See Antidumping or Countervailing Duty Order, Finding, or Suspended Investigation; Opportunity to Request Administrative Review, 83 FR 54912 (November 1, 2018).

² See letter from the petitioners, “Administrative Review of the Antidumping Duty Order on Certain Coated Paper Suitable for High-Quality Print Graphics Using Sheet-Fed Presses from the People's Republic of China (11/01/17-10/31/18),” dated November 30, 2018.

³ See Initiation of Antidumping and Countervailing Duty Administrative Reviews, 84 FR 2159 (February 6, 2019) (Initiation Notice). Commerce exercised its discretion to toll all deadlines affected by the partial federal government closure from December 22, 2018, through the resumption of operations on January 29, 2019. See memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. Accordingly, the deadline for issuing the Initiation Notice was tolled by 40 days.

⁴ See letter from the petitioners, “Administrative Review of the Antidumping Duty Order on Certain Coated Paper Suitable for High-Quality Print Graphics Using Sheet-Fed Presses from the People's Republic of China (11/01/17-10/31/18): Withdrawal of Review Request,” dated March 29, 2019.

Rescission of Review

Pursuant to 19 CFR 351.213(d)(1), the Secretary will rescind an administrative review, in whole or in part, if the party or parties who requested the review withdraw(s) the request within 90 days of the date of publication of the notice of initiation of the requested review. As explained above, the petitioners timely withdrew their request for an administrative review of all companies listed in the Initiation Notice by the 90-day deadline, and no other party requested a review of these companies. Accordingly, we are rescinding this review in its entirety, pursuant to 19 CFR 351.2013(d)(1).

Assessment

Commerce will instruct CBP to assess antidumping duties on all appropriate entries of coated paper at rates equal to the cash deposit of estimated antidumping duties required at the time of entry, or withdrawal from warehouse, for consumption, in accordance with 19 CFR 351.212(c)(1)(i). Commerce intends to issue appropriate assessment instructions to CBP 15 days after the publication of this notice in the Federal Register.

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of the antidumping and/or countervailing duties occurred and the subsequent assessment of doubled antidumping duties.

Notification Regarding Administrative Protective Order

This notice serves as a final reminder to parties subject to an administrative protective order (APO) of their responsibility concerning the return or destruction of proprietary information disclosed under an APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: April 10, 2019.
James Maeder,
Associate Deputy Assistant Secretary for Antidumping and Countervailing Duty Operations, performing the duties of the Deputy Assistant Secretary for Antidumping and Countervailing Duty Operations.

[FR Doc. 2019-07541 Filed 4-15-19; 8:45 am]

BILLING CODE 3510-DS-P